SMALL BUSINESS ADMINISTRATION

[Disaster Declaration #20445 and #20446; TEXAS Disaster Number TX-20016]

Presidential Declaration Amendment of a Major Disaster for the State of Texas

AGENCY: U.S. Small Business Administration.

ACTION: Amendment 1.

SUMMARY: This is an amendment of the Presidential declaration of a major disaster for the State of Texas (FEMA-4798-DR), dated 07/12/2024.

Incident: Hurricane Beryl.

Incident Period: 07/05/2024 through 07/09/2024.

DATES: Issued on 07/13/2024.

Physical Loan Application Deadline Date: 09/10/2024.

Economic Injury (EIDL) Loan Application Deadline Date: 04/14/2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of Texas, dated 07/12/2024, is hereby amended to include the following areas as adversely affected by the disaster:

Primary Counties (Physical Damage and Economic Injury Loans): Fort Bend, Nacogdoches.

Contiguous Counties (Economic Injury Loans Only):

Texas: Cherokee, Rusk, Shelby.

All other information in the original declaration remains unchanged.

(Catalog of Federal Domestic Assistance Number 59008)

Francisco Sánchez, Jr.,
Associate Administrator, Office of Disaster Recovery & Resilience.

[FR Doc. 2024-16084 Filed 7-22-24; 8:45 am]

BILLING CODE 8026-09-P